DEPARTMENT OF TRANSPORTATION

Federal Aviation Administration

14 CFR Part 39

[Docket No. FAA-2024-1698; Project Identifier AD-2024-00005-T; Amendment 39-22895; AD 2024-24-05]

RIN 2120-AA64

Airworthiness Directives; The Boeing Company Airplanes

AGENCY: Federal Aviation Administration (FAA), DOT.

ACTION: Final rule.

SUMMARY: The FAA is adopting a new airworthiness directive (AD) for certain The Boeing Company Model 767-300F series airplanes. This AD was prompted by a determination that certain cargo compartment insulation blankets do not adequately fit some locations and allow smoke to migrate past the cargo compartment sidewall liners and upward into the main cabin. This AD requires replacing cargo compartment insulation blankets. The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2024-1698; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-1698.

FOR FURTHER INFORMATION CONTACT: Julie Linn, Aviation Safety Engineer, FAA, 2200 South 216th St., Des Moines, WA 98198; phone: 206-231-3684; email: julie.linn@faa.gov.

SUPPLEMENTARY INFORMATION:

Background

The FAA issued a notice of proposed rulemaking (NPRM) to amend 14 CFR part 39 by adding an AD that would apply to certain The Boeing Company Model 767-300F series airplanes. The NPRM published in the Federal Register on June 26, 2024 (89 FR 53370). The NPRM was prompted by a determination that certain cargo compartment insulation blankets do not adequately fit some locations and allow smoke to migrate past the cargo compartment sidewall liners and upward into the main cabin. In the NPRM, the FAA proposed to require replacing the cargo compartment insulation blankets. The FAA is issuing this AD to address inadequately fitting cargo compartment insulation blankets. The unsafe condition, if not addressed, could result in a fire in the bilge area of the cargo compartment, which if not contained could lead to a smoke and fire event in the passenger compartment.

Discussion of Final Airworthiness Directive

Comments

The FAA received a comment from Air Line Pilots Association, International (ALPA) who supported the NPRM without change.

The FAA also received comments from Boeing, Aviation Partners Boeing, and All Nippon Airways. The following presents the comments received on the NPRM and the FAA's response to each comment.

Request To Add a Boeing Alternative Method of Compliance (AMOC) Notice to the Proposed AD

All Nippon Airways and Boeing requested that the FAA add Boeing AMOC Notice 767-25-0550 AMOC 01, dated March 13, 2024, to the proposed AD. All Nippon Airways requested that Boeing AMOC Notice 767-25-0550 AMOC 01, dated March 13, 2024, be added to paragraph (g) of the proposed AD to specify that the actions should be done in accordance with both Boeing Special Attention Service Bulletin 767-25-0550 Revision 2, dated December 18, 2023, and Boeing AMOC Notice 767-25-0550 AMOC 01, dated March 13, 2024. All Nippon Airways stated that Boeing AMOC Notice 767-25-0550 AMOC 01, dated March 13, 2024, provides changes regarding Boeing Special Attention Service Bulletin 767-25-0550, Revision 2, dated December 18, 2023.

Boeing requested that the FAA revise paragraph (h) of the proposed AD, (the “Alternative Methods of Compliance (AMOCs)” paragraph), to include language approving Boeing AMOC Notice 767-25-0550 AMOC 01, dated March 13, 2024, as an AMOC to the proposed AD. Boeing stated that Boeing AMOC Notice 767-25-0550 AMOC 01, dated March 13, 2024, applies to Boeing Special Attention Service Bulletin 767-25-0550, Revision 2, dated December 18, 2023, and was approved and published as an alternative to accomplishing the requirements specified by paragraph (g) of AD 2021-12-11 Amendment 39-21598 (86 FR 33112, June 24, 2021) (AD 2021-12-11).

The FAA notes that the approved FAA AMOC letter 522-24-00097, dated March 12, 2024, allows Boeing AMOC Notice 767-25-0550 AMOC 01, dated March 13, 2024, as an alternative to certain steps in Boeing Special Attention Service Bulletin 767-25-0550 Revision 2, dated December 18, 2023. FAA AMOC letter 522-24-00097, dated March 12, 2024, was previously approved for use in AD-2021-12-11. The FAA has revised paragraph (h)(4) of this AD to include FAA AMOC letter 522-24-00097, dated March 12, 2024, as an approved AMOC for the corresponding actions specified in paragraph (g) of this AD.

Effect of Winglets on Accomplishment of the Proposed Actions

Aviation Partners Boeing stated that the installation of winglets per Supplemental Type Certificate (STC) ST01920SE does not affect compliance with the proposed actions.

The FAA agrees with the commenter that STC ST01920SE does not affect the accomplishment of the manufacturer's service instructions. Therefore, the installation of STC ST01920SE does not affect the ability to accomplish the actions required by this AD. The FAA has not changed this AD in this regard.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Special Attention Service Bulletin 767-25-0550, Revision 2, dated December 18, 2023. This material specifies procedures for replacing insulation blankets in the cargo compartment with insulation blankets with integrated fire stops.

This material is reasonably available because the interested parties have access to it through their normal course of business or by the means identified in the ADDRESSES section.

Costs of Compliance

The FAA estimates that this AD affects 32 airplanes of U.S. registry. The FAA estimates the following costs to comply with this AD:

Estimated Costs
Action | Labor cost | Parts cost | Cost per product | Cost on U.S. operators
Replacement | 270 work-hours × $85 per hour = $22,950 | $35,900 | $58,850 | $1,883,200

The FAA has included all known costs in its cost estimate. According to the manufacturer, however, some or all the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-24-05 The Boeing Company: Amendment 39-22895; Docket No. FAA-2024-1698; Project Identifier AD-2024-00005-T.

(a) Effective Date

This airworthiness directive (AD) is effective January 13, 2025.

(b) Affected ADs

None.

(c) Applicability

This AD applies to The Boeing Company Model 767-300F series airplanes, certificated in any category, identified as Group 7, 11 through 15, and 18 in Boeing Special Attention Service Bulletin 767-25-0550, Revision 2, dated December 18, 2023.

(d) Subject

Air Transport Association (ATA) of America Code 25, Equipment/Furnishings.

(e) Unsafe Condition

This AD was prompted by a determination that certain cargo compartment insulation blankets do not adequately fit some locations and allow smoke to migrate past the cargo compartment. The FAA is issuing this AD to require replacing these cargo compartment insulation blankets. The unsafe condition, if not addressed, could result in a fire in the bilge area of the cargo compartment, which if not contained could lead to a smoke and fire event in the passenger compartment.

(f) Compliance

Comply with this AD within the compliance times specified, unless already done.

(g) Required Actions

Within 36 months after the effective date of this AD, do all applicable actions identified as “RC” (required for compliance) in, and in accordance with, the Accomplishment Instructions of Boeing Special Attention Service Bulletin 767-25-0550, Revision 2, dated December 18, 2023.

(h) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (i) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) FAA AMOC letter 522-24-00097, dated March 12, 2024, approved for AD 2021-12-11, Amendment 39-21598 (86 FR 33112, June 24, 2021) is approved as an AMOC for the corresponding provisions of Boeing Special Attention Service Bulletin 767-25-0550, Revision 2, dated December 18, 2023, that are required by paragraph (g) of this AD.

(5) For service information that contains steps that are labeled as Required for Compliance (RC), the provisions of paragraphs (h)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(i) Related Information

For more information about this AD, contact Julie Linn, Aviation Safety Engineer, FAA, 2200 South 216th St., Des Moines, WA 98198; phone: 206-231-3684; email: julie.linn@faa.gov.

(j) Material Incorporated by Reference

(1) The Director of the Federal Register approved the incorporation by reference of the material listed in this paragraph under 5 U.S.C. 552(a) and 1 CFR part 51.

(2) You must use this material as applicable to do the actions required by this AD, unless the AD specifies otherwise.

(i) Boeing Special Attention Service Bulletin 767-25-0550, Revision 2, dated December 18, 2023.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 20, 2024.
Peter A. White,
Deputy Director, Integrated Certificate Management Division, Aircraft Certification Service.

[FR Doc. 2024-28781 Filed 12-6-24; 8:45 am]

BILLING CODE 4910-13-P